DEPARTMENT OF COMMERCE

International Trade Administration

[A-423-813]

Citric Acid and Certain Citrate Salts From Belgium: Final Results of the Sunset Review of the Antidumping Duty Order

AGENCY: Enforcement and Compliance, International Trade Administration, Department of Commerce.

SUMMARY: On September 22, 2023, the U.S. Department of Commerce (Commerce) issued the preliminary results of the first full five-year sunset review of the antidumping duty (AD) order on citric acid and certain citrate salts (citric acid) from Belgium. We received no comment from interested parties in opposition to our preliminary results. As a result of our analysis, Commerce finds that revocation of the AD order on citric acid from Belgium would be likely to lead to continuation or recurrence of dumping at the levels indicated in the “Final Results of Sunset Review” section of this notice.

DATES: Applicable December 21, 2023.

FOR FURTHER INFORMATION CONTACT: Deborah Cohen, AD/CVD Operations, Office III, Enforcement and Compliance, International Trade Administration, U.S. Department of Commerce, 1401 Constitution Avenue NW, Washington, DC 20230; telephone: (202) 482-4521.

SUPPLEMENTARY INFORMATION:

Background

On June 1, 2023, Commerce published the initiation of the sunset review of the AD order on citric acid from Belgium ¹ in the Federal Register pursuant to section 751(c) of the Tariff Act of 1930, as amended (the Act).² As Commerce received a substantive response from Citribel nv (Citribel),³ which claimed interested party status under section 771(9)(A) of the Act as a foreign producer and foreign exporter of citric acid, Commerce notified the U.S. International Trade Commission (ITC) that it would conduct a full sunset review of the Order pursuant to 19 CFR 351.218(e)(2).⁴

¹ See Citric Acid and Certain Citrate Salts from Belgium, Colombia and Thailand: Antidumping Duty Orders, 83 FR 35214 (July 25, 2018) (Order).

² See Initiation of Five-Year (Sunset) Reviews, 88 FR 35832 (June 1, 2023).

³ See Citribel's Letter, “Citribel N.V.'s Substantive Response,” dated July 3, 2023.

⁴ See Commerce's Letter, “Sunset Reviews Initiated on June 1, 2023,” dated July 25, 2023.

On September 22, 2023, Commerce published the Preliminary Results, finding that dumping was likely to continue or recur if the Order were revoked, and determined to the report to the ITC rates up to 19.30 percent as the margin of dumping likely to prevail.⁵ We invited interested parties to comment on the Preliminary Results.⁶ We received a case brief from Archer Daniels Midland Company, Cargill, Incorporated, and Primary Products Ingredients Americas LLC (collectively, the domestic interested parties), which notes their agreement with the preliminary determination that revocation of the Order would be likely to lead to continuation or recurrence of dumping, which they state was appropriately based on Commerce's finding that import volumes of the subject merchandise declined significantly after issuance of the Order.⁷

⁵ See Citric Acid and Certain Citrate Salts from Belgium: Preliminary Results of the Sunset Review of the Antidumping Duty Order, 88 FR 65365 (September 22, 2023) (Preliminary Results), and accompanying Preliminary Decision Memorandum.

⁶ Id., 88 FR at 65366.

⁷ See Domestic Interested Parties' Letter, “Domestic Industry's Case Brief,” dated October 23, 2023. The domestic interested parties note that, should the final results of the 2021-2022 administrative review of the Order be finalized prior to the instant sunset final results, the affirmative decision that revocation would likely lead to the continuance of dumping could be additionally supported with a finding that dumping continued after issuance of the Order. However, because the final results of the 2021-2022 administrative review have not yet been issued at the time of signature of this notice, we continue to decline to consider the unfinalized dumping margins of the ongoing 2021-2022 administrative review for the purposes of the instant determination.

We received no further case or rebuttal briefs from interested parties; thus, the record reflects no opposition to the Preliminary Results nor presents substantive issues which require further consideration. Accordingly, the final results remain unchanged from the Preliminary Results.

Scope of the Order

The merchandise covered by this Order includes all grades and granulation sizes of citric acid, sodium citrate, and potassium citrate in their unblended forms, whether dry or in solution, and regardless of packaging type. For a full description of the scope of the Order, see the Preliminary Decision Memorandum.

Final Results of Sunset Review

Pursuant to sections 751(c)(1) and 752(c)(1) and (3) of the Act, Commerce determines that revocation of the Order would be likely to lead to continuation or recurrence of dumping at a weighted-average dumping margin up to 19.30 percent.

As noted above, Commerce received no comments in opposition to its Preliminary Results. As a result, we have not modified our analysis, and no issues and decision memorandum accompanies this Federal Register notice. We are adopting the Preliminary Results as the final results.

Administrative Protective Order

This notice also serves as a reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This five-year sunset review and notice are in accordance with sections 751(c)(5)(A), 752(c), and 777(i) of the Act and 19 CFR 351.218(f)(3).

Dated: December 15, 2023.
Abdelali Elouaradia,
Deputy Assistant Secretary for Enforcement and Compliance.

[FR Doc. 2023-28138 Filed 12-20-23; 8:45 am]

BILLING CODE 3510-DS-P